DEPARTMENT OF HEALTH AND HUMAN SERVICES

Agency for Toxic Substances and Disease Registry

[Docket No. ATSDR-2016-0003]

Availability of Draft Toxicological Profiles; Jet Fuels and 1-Bromopropane

AGENCY: Agency for Toxic Substances and Disease Registry (ATSDR), Department of Health and Human Services (DHHS).

ACTION: Notice of availability, and request for comments.

SUMMARY: This notice, prepared by the Agency for Toxic Substances and Disease Registry (ATSDR) for the Department of Defense, announces the availability of two new draft toxicological profile on unregulated hazardous substances for review and comment. All toxicological profiles issued as “Drafts for Public Comment” represent ATSDR's best efforts to provide important toxicological information on priority hazardous substances. We are seeking public comments and additional information or reports on studies about the health effects of Jet Fuels and 1-Bromopropane for review and potential inclusion in the profile. ATSDR remains committed to providing a public comment period for these documents as a means to best serve public health and our clients.

Comments can include additional information or reports on studies about the health effects of Jet Fuels and 1-Bromopropane. Although ATSDR will consider key studies for these substances during the profile development process, this Federal Register notice solicits any relevant, additional studies, particularly unpublished data. ATSDR will evaluate the quality and relevance of such data or studies for possible inclusion into the profile.

DATES: Written comments on the draft Toxicological Profiles must be received on or before May 24, 2016.

ADDRESSES: You may submit comments, identified by docket number ATSDR-2016-0003, by any of the following methods:

• Federal eRulemaking Portal: www.regulations.gov. Follow the instructions for submitting comments.

• Mail: Division of Toxicology and Human Health Sciences, Agency for Toxic Substances and Disease Registry, 1600 Clifton Rd. NE., MS F-57, Atlanta, GA 30329. Attn: Docket No. ATSDR-2016-0003.

Instructions: All submissions received must include the agency name and docket number for this notice. All relevant comments will be posted without change. Because all public comments regarding ATSDR Toxicological Profiles are available for public inspection, no confidential business information or other confidential information should be submitted in response to this notice.

FOR FURTHER INFORMATION CONTACT: Ms. Delores Grant, Division of Toxicology and Human Health Sciences, Agency for Toxic Substances and Disease Registry, 1600 Clifton Rd. NE., MS F-57, Atlanta, GA 30329. Phone: (800) 232-4636 or 770-488-3351.

SUPPLEMENTARY INFORMATION: The Superfund Amendments and Reauthorization Act (SARA) of 1986 (Pub. L. 99-499) amended the Comprehensive Environmental Response, Compensation, and Liability Act (CERCLA or Superfund). Section 211 of SARA also amended Title 10 of the U.S. Code, creating the Defense Environmental Restoration Program. Section 2704(a) of Title 10 of the U.S. Code directs the Secretary of Defense to notify the Secretary of HHS of not less than 25 of the most commonly found unregulated hazardous substances at defense facilities. The Secretary of HHS is to prepare toxicological profiles of these substances. Each profile is to include an examination, summary, and interpretation of available toxicological information and epidemiologic evaluations. This information is used to ascertain the level of significant human exposure for the substance and the associated health effects. The toxicological profile includes a determination of whether adequate information on the health effects of each substance is available or is in the process of being developed. When adequate information is not available, ATSDR, in cooperation with the National Toxicology Program (NTP), may plan a program of research designed to determine these health effects.

Although a number of key studies for this substance were identified and evaluated during the draft profile development process, this Federal Register notice seeks to solicit any additional studies, particularly unpublished data and ongoing studies. These studies will be evaluated for possible addition to the profile now or in the future.

The Toxicological Profiles for Jet Fuels and 1-Bromopropane are available online at http://www.atsdr.cdc.gov/toxprofiles/index.asp and www.regulations.gov, Docket No. ATSDR-2016-0003.

Donna B. Knutson,
Acting Director, Office of Policy, Planning and Evaluation, National Center for Environmental Health, and Agency for Toxic Substances and Disease Registry.

[FR Doc. 2016-03861 Filed 2-23-16; 8:45 am]

BILLING CODE 4163-70-P